FEDERAL RESERVE SYSTEM

Proposed Agency Information Collection Activities; Comment Request

AGENCY: Board of Governors of the Federal Reserve System.

ACTION: Notice, request for comment.

SUMMARY: The Board of Governors of the Federal Reserve System (Board) invites comment on a proposal to extend for three years, without revision, the Registration of a Securities Holding Company (FR 2082; OMB No. 7100-0347).

DATES: Comments must be submitted on or before April 1, 2019.

ADDRESSES: You may submit comments, identified by FR 2082, by any of the following methods:

• Agency Website: http://www.federalreserve.gov. Follow the instructions for submitting comments at https://www.federalreserve.gov/apps/foia/proposedregs.aspx.

• Email: regs.comments@federalreserve.gov. Include OMB number in the subject line of the message.

• Fax: (202) 452-3819 or (202) 452-3102.

• Mail: Ann E. Misback, Secretary, Board of Governors of the Federal Reserve System, 20th Street and Constitution Avenue NW, Washington, DC 20551.

All public comments are available from the Board's website at https://www.federalreserve.gov/apps/foia/proposedregs.aspx as submitted, unless modified for technical reasons or to remove sensitive PII (personally identifiable information) at the commenter's request. Public comments may also be viewed electronically or in paper form in Room 3515, 1801 K Street NW (between 18th and 19th Streets NW), Washington, DC 20006 between 9:00 a.m. and 5:00 p.m. on weekdays. For security reasons, the Board requires that visitors make an appointment to inspect comments. You may do so by calling (202) 452-3684. Upon arrival, visitors will be required to present valid government-issued photo identification and to submit to security screening in order to inspect and photocopy comments.

Additionally, commenters may send a copy of their comments to the OMB Desk Officer—Shagufta Ahmed—Office of Information and Regulatory Affairs, Office of Management and Budget, New Executive Office Building, Room 10235, 725 17th Street NW, Washington, DC 20503 or by fax to (202) 395-6974.

FOR FURTHER INFORMATION CONTACT: A copy of the PRA OMB submission, including the proposed reporting form and instructions, supporting statement, and other documentation will be placed into OMB's public docket files, if approved. These documents will also be made available on the Board's public website at: http://www.federalreserve.gov/apps/reportforms/review.aspx or may be requested from the agency clearance officer, whose name appears below.

Federal Reserve Board Clearance Officer—Nuha Elmaghrabi—Office of the Chief Data Officer, Board of Governors of the Federal Reserve System, Washington, DC 20551, (202) 452-3829. Telecommunications Device for the Deaf (TDD) users may contact (202) 263-4869, Board of Governors of the Federal Reserve System, Washington, DC 20551.

SUPPLEMENTARY INFORMATION: On June 15, 1984, the Office of Management and Budget (OMB) delegated to the Board authority under the Paperwork Reduction Act (PRA) to approve and assign OMB control numbers to collection of information requests and requirements conducted or sponsored by the Board. In exercising this delegated authority, the Board is directed to take every reasonable step to solicit comment. In determining whether to approve a collection of information, the Board will consider all comments received from the public and other agencies.

Request for comment on information collection proposal.

The Board invites public comment on the following information collection, which is being reviewed under authority delegated by the OMB under the PRA. Comments are invited on the following:

a. Whether the proposed collection of information is necessary for the proper performance of the Board's functions; including whether the information has practical utility;

b. The accuracy of the Board's estimate of the burden of the proposed information collection, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Board should modify the proposal.

Proposal to approve under OMB delegated authority the extension for three years, without revision, of the following report:

Report title: Registration of a Securities Holding Company.

Agency form number: FR 2082.

OMB control number: 7100-0347.

Frequency: On occasion.

Respondents: Securities holding companies (SHCs).

Estimated number of respondents: 1.

Estimated average hours per response: 8.

Estimated annual burden hours: 8.

General description of report: Section 241.3(a)(1) of the Board's Regulation OO requires SHCs that elect to register to become supervised SHCs to file the appropriate registration form with the responsible Federal Reserve Bank. The registration form, FR 2082, requests from the registering SHC an organization chart (including all subsidiaries), shareholder reports and financial statements, information regarding the SHC's shareholders, senior officers and directors, information regarding the methods used by the SHC to monitor and control its operations, and information regarding the SHC's foreign bank subsidiaries and the bank regulatory system in which these foreign bank subsidiaries operate. The information collected by the FR 2082 registration form is used by the Federal Reserve System to determine whether the registrant meets the requirements to become a supervised SHC and to complete the registration. This information is not available from another source.¹

¹ The previous final Federal Register notice for the FR 2082 included a reference to section 241.3(b)(3)(i) of Regulation OO. This reference has been removed, because section 241.3(b)(3)(i) of Regulation OO does not include a collection of information. The removal of this reference does not impact the total annual burden estimate for the FR 2082, as no burden was associated with section 241.3(b)(3)(i) of Regulation OO.

Legal authorization and confidentiality: The FR 2082 registration form implemented by section 241.3(a) of Regulation OO, 12 CFR 241.3(a), is authorized by section 618(b)(2)(A) of the Dodd-Frank Act, 12 U.S.C. 1850a(b)(2)(A). Section 618(b)(2)(A) requires covered companies that elect to be supervised by the Board “to register by filing with the Board of Governors such information and documents as the [Board], by regulation, may prescribe as necessary.” The obligation to submit the FR 2082 registration form is required for covered companies that elect to register to become supervised SHCs on a one-time basis.

The information provided on the FR 2082 registration form and in connection with the SHC's registration is considered public. However, certain personal and biographical information on individuals, which is required to be submitted as part of the registration, may be treated as confidential under exemption 6 of the Freedom of Information Act (“FOIA”), which protects from disclosure information that “would constitute a clearly unwarranted invasion of personal privacy” (5 U.S.C. 552(b)(6)). In addition, certain information submitted in connection with the SHC's registration may be exempt from disclosure under exemption 4 of the FOIA, which protects confidential commercial or financial information that is reasonably likely to result in substantial competitive harm if disclosed (5 U.S.C. 552(b)(4)). If an SHC seeks confidential treatment of any information submitted as part of its registration under exemption 4 of the FOIA, the SHC must submit such a request in accordance with section 261.15 of the Board's Rules Regarding Availability of Information (12 CFR 261.15). In addition, information for which confidential treatment is sought under exemption 4 or 6 of the FOIA must be labelled as confidential, and a request for confidential treatment must be submitted in writing concurrently with the filing of the registration (or related submissions). The confidential treatment request must provide a detailed justification as to why confidential treatment is warranted for each portion of the registration (or submission) for which confidentiality is requested.

Board of Governors of the Federal Reserve System, January 17, 2019.
Michele Taylor Fennell,
Assistant Secretary of the Board.

[FR Doc. 2019-00367 Filed 1-30-19; 8:45 am]

BILLING CODE 6210-01-P